DEPARTMENT OF TRANSPORTATION

Federal Aviation Administration

14 CFR Part 141

[Docket No. FAA-2024-2531; Document No. 2025-23113]

Notification of Public Meeting and Request for Comment on the Modernization of Pilot Schools

AGENCY: Federal Aviation Administration (FAA), Department of Transportation (DOT).

ACTION: Notification of public meeting for proposed rulemaking; request for comment; withdrawal.

SUMMARY: The FAA is withdrawing the Notification of Public Meeting and Request for Comment on the Modernization of Pilot Schools for the meeting scheduled on February 5, 2026, that was published in the Federal Register on December 17, 2025.

DATES: The Notification of Public Meeting and Request for Comment on the Modernization of Pilot Schools published on December 17, 2025, at 90 FR 58524, is withdrawn effective February 2, 2026.

FOR FURTHER INFORMATION CONTACT: Lyndsay Carlson with the Part 141 Modernization Initiative Team, Office of Safety Standards, General Aviation and Commercial Division, Training and Certification Group (AFS-810), Federal Aviation Administration; telephone (202) 267-1100; email 9-AFS-Modernization-Part141-Comments@faa.gov.

SUPPLEMENTARY INFORMATION:

Background

On December 17, 2025, the FAA published in the Federal Register a Notification of Public Meeting and Request for Comment on the Modernization of Pilot Schools, Document No. 2025-23113, Docket No. FAA-2024-2531, 90 FR 58524. The public meeting on February 5, 2026, was scheduled to be the closing public meeting, during which the industry groups would present their report.

Reason for Withdrawal

Industry working groups requested the FAA postpone the meeting to provide additional time to prepare their report for presentation at the closing meeting. To accommodate the industry groups' request, the FAA is withdrawing the previously published notice of the hybrid public meeting and issuing a superseding Notification of Public Meeting and Request for Comment.

Conclusion

The Notification of Public Meeting and Request for Comment on the Modernization of Pilot Schools, Document No. 2025-23113, Docket No. FAA-2024-2531, published at 90 FR 58524, is therefore withdrawn. See website for public meeting schedule: https://www.faa.gov/about/office_org/headquarters_offices/avs/offices/afx/afs/afs800/afs810/modernization_of_part-141_initiative.

Authority: 14 CFR 11.53.

Issued in Washington, DC, on January 28, 2026.
Everette C. Rochon, Jr.,
Manager, Training and Certification Group, General Aviation and Commercial Division, Office of Safety Standards, Flight Standards Service.

[FR Doc. 2026-02009 Filed 1-30-26; 8:45 am]

BILLING CODE 4910-13-P